DEPARTMENT OF ENERGY

Federal Energy Regulatory Commission

[Project No. 803-087]

Pacific Gas and Electric Company, California; Notice of Availability of Final Environmental Assessment

July 24, 2009.

In accordance with the National Environmental Policy Act of 1969 and Federal Energy Regulatory Commission (Commission) regulations, 18 CFR part 380 (Order No. 486, 52 FR 47879), the Office of Energy Projects has reviewed the application for a new license for the DeSabla-Centerville Hydroelectric Project (project), located on Butte Creek in Butte County, California, and has prepared a final environmental assessment (final EA). In the final EA, Commission staff analyze the potential environmental effects of relicensing the project and conclude that issuing a new license for the project, with appropriate environmental measures, would not constitute a major federal action significantly affecting the quality of the human environment.

A copy of the final EA is on file with the Commission and is available for public inspection. The final EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Kimberly D. Bose,
Secretary.

[FR Doc. E9-18300 Filed 7-30-09; 8:45 am]

BILLING CODE 6717-01-P